DEPARTMENT OF THE INTERIOR

National Park Service

[2253-665]

Notice of Intent To Repatriate Cultural Items: Fowler Museum at UCLA, Los Angeles, CA

AGENCY: National Park Service, Interior.

ACTION: Notice.

SUMMARY: The Fowler Museum at UCLA, in consultation with the appropriate Indian tribes, has determined that the cultural items meet the definition of unassociated funerary objects and repatriation to the Indian tribe stated below may occur if no additional claimants come forward. Representatives of any Indian tribe that believes itself to be culturally affiliated with the cultural items may contact the Fowler Museum at UCLA.

DATES: Representatives of any Indian tribe that believes it has a cultural affiliation with the cultural items should contact the Fowler Museum at UCLA at the address below by March 28, 2012.

ADDRESSES: Wendy G. Teeter, Ph.D., Curator of Archaeology, Fowler Museum at UCLA, Box 951549, Los Angeles, CA 90095-1549, telephone (310) 825-1864.

SUPPLEMENTARY INFORMATION: Notice is here given in accordance with the Native American Graves Protection and Repatriation Act (NAGPRA), 25 U.S.C. 3005, of the intent to repatriate cultural items in the possession of the Fowler Museum at UCLA that meet the definition of unassociated funerary objects under 25 U.S.C. 3001.

This notice is published as part of the National Park Service's administrative responsibilities under NAGPRA, 25 U.S.C. 3003(d)(3). The determinations in this notice are the sole responsibility of the museum, institution or Federal agency that has control of the Native American cultural items. The National Park Service is not responsible for the determinations in this notice.

History and Description of the Cultural Items

In 1922, two unassociated funerary objects were removed from a burial at Gila River, AZ, by Frank Larsen. Subsequently, the two unassociated funerary objects, a jar and a figurine head, came into the possession of Raleigh W. Applegate in 1949. The Fowler Museum at UCLA acquired these unassociated funerary objects from Mr. Applegate in 1968 as part of a larger southwestern materials collection. These unassociated funerary objects are currently in the control of the Fowler Museum at UCLA, Los Angeles, CA.

Expert testimony identified the jar and the figurine head as Late Preclassic Hohokam, dating to A.D. 900-1100. Nearly all of the Sacaton red-on-buff vessels were produced at a few villages on the Gila River, most of which are now on the Gila River Indian Reservation, AZ.

The Gila River Indian Community of the Gila River Indian Reservation, Arizona, has submitted a repatriation claim for the cultural items described in this notice, on behalf of itself and the Ak Chin Indian Community of the Maricopa (Ak Chin) Indian Reservation, Arizona; Salt River Pima-Maricopa Indian Community of the Salt River Reservation, Arizona; and the Tohono O'odham Nation of Arizona (hereinafter referred to as “The Four Southern Tribes of Arizona”).

The Four Southern Tribes of Arizona assert a close relationship of shared group identity that can be traced both historically and prehistorically between The Four Southern Tribes of Arizona and the people that inhabited south central Arizona and the northern region of present day Mexico from time immemorial. Therefore, The Four Southern Tribes of Arizona claim cultural affiliation to the cultural items based on geographical, archeological, linguistic, oral tradition, and historical evidence. These affiliations include several archeological cultures including (but not limited to) the Archaic, Paleo-Indian, Hohokam, Salado, Patayan, and Sinagua.

The Hopi Tribe of Arizona claims cultural and ancestral affiliation to all human remains, associated and unassociated funerary objects, sacred objects, and objects of cultural patrimony that were collected from Paleo-Indian, Archaic, Basketmaker, Hisatsinom (Anasazi), Mogollon, Hohokam, Sinaguan, Fremont, Mimbres, and Salado, prehistoric and historic cultures of the Southwest.

Based on Zuni oral teachings and tradition, ethnohistoric documentation, historic documentation, archeological documentation, and other evidence, the Zuni Tribe of the Zuni Reservation, New Mexico, claims cultural affiliation with prehistoric cultures of the southwestern United States that include, and are known as, Paleo Indian, Archaic, Basketmaker, Puebloan, Freemont, Anasazi, Mogollon (including Mimbres and Jornada), Hohokam, Sinagua, Western Pueblo, and Salado. In addition, the Zuni Tribe of the Zuni Reservation, New Mexico, claims cultural affiliation with the historically identified Zuni, Cibola, Shiwi, and Ashiwi cultures.

Determinations Made by the Fowler Museum at UCLA

Officials of the Fowler Museum at UCLA have determined that:

• Pursuant to 25 U.S.C. 3001(3)(b), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila Indian Reservation, Arizona; Hopi Tribe of Arizona; Salt River Pima-Maricopa Indian Community of the Salt River Reservation, Arizona; Tohono O'odham Nation of Arizona; and the Zuni Tribe of the Zuni Reservation, New Mexico.

Additional Requestors and Disposition

Representatives of any other Indian tribe that believes itself to be culturally affiliated with the unassociated funerary objects should contact Wendy G. Teeter, Ph.D., Curator of Archaeology, Fowler Museum at UCLA, Box 951549, Los Angeles, CA 90095-1549, telephone (310) 825-1864, before March 28, 2012. Repatriation of the unassociated funerary objects to the Gila River Indian Community of the Gila River Indian Reservation, Arizona, on behalf of The Four Southern Tribes of Arizona, may proceed after that date if no additional claimants come forward.

The Fowler Museum at UCLA is responsible for notifying The Four Southern Tribes of Arizona, the Hopi Tribe of Arizona and the Zuni Tribe of the Zuni Reservation, New Mexico, that this notice has been published.

Dated: February 22, 2012.
Sherry Hutt,
Manager, National NAGPRA Program.

[FR Doc. 2012-4542 Filed 2-24-12; 8:45 am]

BILLING CODE 4312-50-P